DEPARTMENT OF TRANSPORTATION

Federal Transit Administration

FY 2022 and 2023 Competitive Funding Opportunity: Accelerating Advanced Digital Construction Management Systems Program

AGENCY: Federal Transit Administration (FTA), Department of Transportation (DOT).

ACTION: Notice of funding opportunity (NOFO).

SUMMARY: The Federal Transit Administration (FTA) announces the opportunity to competitively apply for $5,093,000 under the Fiscal Year (FY) 2022 and 2023 Public Transportation Innovation Program to serve as the Program Lead for the Accelerating Advanced Digital Construction Management Systems (“ADCMS”) program.

DATES: Complete proposals must be submitted electronically through the Grants.gov “APPLY” function by 11:59 p.m. Eastern time on February 12, 2024.

FOR FURTHER INFORMATION CONTACT: ADCMS Program Team, FTA Office of Research, Demonstration, and Innovation, by email at ADCMS@dot.gov or by phone at (202) 366-2182.

Prospective applicants should initiate the process by registering on the Grants.gov website promptly to ensure completion of the application process before the submission deadline. Instructions for applying can be found on FTA's website at https://www.transit.dot.gov/howtoapply and in the “FIND” module of Grants.gov. The Grants.gov funding opportunity ID is FTA-2023-012-TRI-ADCMS. Mail and fax submissions will not be accepted.

SUPPLEMENTARY INFORMATION:

Table of Contents

A. Program Description

B. Federal Award Information

C. Eligibility Information

D. Application and Submission Information

E. Application Review Information

F. Federal Award Administration Information

G. Federal Awarding Agency Contacts

H. Other Information

A. Program Description

1. Background

FTA's Public Transportation Innovation Program (49 U.S.C. 5312) supports research and demonstrations to develop and deploy ideas, practices, and approaches that improve public transportation. This Notice (Federal Assistance Listing 20.526) will establish a program to plan, deploy, evaluate, and promote ADCMS technologies under 49 U.S.C. 5312(b)(4).

Construction is often the costliest and potentially most disruptive phase of any public transportation infrastructure project. Effective and efficient management of all elements and life cycle phases of infrastructure construction is key to on-time and on-budget project delivery. Project teams must know how and why specific changes or improvements are being made, ideally in real-time, and be aware of variations in methods of construction, delays, and stakeholder inputs. Public transportation infrastructure projects could have delays, cost overruns, avoidable revisions and change orders, worker injuries, or substandard build quality without effective and efficient infrastructure construction management strategies.

The Infrastructure Investment and Jobs Act, Public Law 117-58 (also called the Bipartisan Infrastructure Law (BIL)), prioritizes the modernization of public transportation systems and acknowledges that the successful implementation of the ADCMS program relies on creating a new digital solution for the infrastructure construction industry. BIL codified 49 U.S.C. 5312(b)(4), which requires FTA to accelerate the implementation and deployment of ADCMS in the public transportation industry. ADCMS is broadly defined as empowering more timely and productive information sharing among stakeholders through reduced reliance on outdated pen-and-paper methods. ADCMS potentially makes modern digital technology available to infrastructure construction employees and enables them to perform tasks faster, more safely, smartly, and accurately, and with reduced oversight and supervision.

Section 5312(b)(4) lists nine goals for the accelerated implementation and deployment of ADCMS technologies in the public transportation industry. They are:

1. Accelerated adoption of advanced digital systems applied throughout the lifecycle of transportation infrastructure (including through the planning, design and engineering, construction, operations, and maintenance phases) that maximize interoperability with other systems, products, tools, or applications; boost productivity; manage complexity; reduce project delays and cost overruns; enhance safety and quality; and reduce total costs for the entire lifecycle of transportation infrastructure assets.

2. More timely and productive information sharing among stakeholders through reduced reliance on paper to manage construction processes and deliverables such as blueprints, design drawings, procurement and supply-chain orders, equipment logs, daily progress reports, and punch lists.

3. Deployment of digital management systems that enable and leverage the use of digital technologies on construction sites by contractors, such as state-of-the-art automated and connected machinery and optimized routing software that allows construction workers to perform tasks faster, more safely, more accurately, and with minimal supervision.

4. The development and deployment of best practices for use in digital construction management.

5. Increased technology adoption and deployment by States, local governmental authorities, and designated recipients that enable project sponsors to integrate the adoption of digital management systems and technologies in contracts and to weigh the cost of digitization and technology in setting project budgets.

6. Technology training and workforce development to build the capabilities of project managers and sponsors that enable States, local governmental authorities, or designated recipients to better manage projects using advanced construction management technologies and to properly measure and reward technology adoption across projects.

7. Development of guidance to assist States, local governmental authorities, and designated recipients in updating regulations to allow project sponsors and contractors to report data relating to the project in digital formats and to fully capture the efficiencies and benefits of advanced digital construction management systems and related technologies.

8. Reduction in the environmental footprint of construction projects using advanced digital construction management systems resulting from eliminating congestion through more efficient projects.

9. Enhanced worker and pedestrian safety resulting from increased transparency.

2. Program Goals and Objectives

FTA is soliciting proposals for a Program Lead to carry out demonstrations of ADCMS software on transit construction projects and report on the results and experiences, with the purpose of assisting other transit agencies considering adopting ADCMS on their construction projects.

FTA expects this ADCMS demonstration program to consist of the following basic program elements, which are described in additional detail below: (1) overall program management and coordination; (2) demonstration of ADCMS on public transportation construction projects; (3) an evaluation of the demonstration projects centered on the nine program goals in 49 U.S.C. 5312(b)(4); and (4) development of “lessons learned” documents of project findings and an implementation guide intended to assist public transportation agencies accelerate the deployment of ADCMS programs.

The Program Lead is encouraged to assemble and lead appropriate partnerships to deliver all components of the ADCMS program as described in this Notice.

i. Management and Coordination

The Program Lead will be responsible for overall program management, coordination, and adherence to established project timelines in accordance with available funding. This includes all aspects of resource management, compliance, and reporting, including oversight of sub-recipients, if any. Eligible activities include data collection, feasibility study and analysis, economic analysis, stakeholder engagement, and outreach, obtaining necessary equipment and services, acquiring or developing software and hardware interfaces to implement the project demonstrations, performance measurement and evaluation, planning, engineering, development of technical or financing plans, public engagement, and participant recruitment, capital and operating expenses, technology applications, or similar necessary components to design, select, and carry out demonstrations.

The Program Lead is expected to work closely and have frequent contact with the transit agency owners of the demonstration construction projects to monitor the collection and analysis of data to ensure the validity and consistency of findings, in accordance with the goals and requirements of this Notice, and with input of the Research Stakeholder Committee, as described in Section A.2.iv., Structured Demonstration and National Research, below.

ii. Demonstration Projects

The Program Lead must provide for at least two transit agencies to demonstrate at least two different ADCMS solutions, and the construction projects used for demonstrations must be FTA-funded projects. Accordingly, the Program Lead must have the capability to support the implementation of more than one ADCMS-integrated software solution. The Program Lead must allow a public transportation agency sponsoring a demonstration to choose its own ADCMS software, and cannot be a provider of, or have a financial interest in, a proprietary ADCMS software solution.

In proposing construction projects for demonstrations, the Program Lead should consider, among other factors, the nature and type of construction management processes being proposed for ADCMS demonstrations, each transit agency's ability to implement ADCMS, the ADCMS products to be demonstrated, and each transit agency's ability to manage project data. FTA expects demonstrations to have a duration not to exceed four years from project start date. The Project Lead shall propose demonstration projects to ensure that the customized ADCMS strategies and targeted investments are having a measurable impact at the demonstration sites.

Demonstration activities should include the full lifecycle for planning, implementing, integrating, testing, and final deployment of the solution. For example, (1) gathering and confirming business requirements from the recipients selected for the demonstration, (2) configuring the ADCMS software noted in the application for the respective partner, (3) testing and integrating the software solution with any internal systems already deployed that relate to digital construction management, (4) final deployment, and (5) lessons learned in the process.

Demonstrations will include the collection of data and experiences from participants in the demonstration projects and unique “storytelling” of individual participants in the various demonstrations that will form the basis of the Project Lead's evaluation of the demonstrations and preparation of “lessons learned” materials for dissemination.

Proposals must include a research program “off-ramp plan” to financially support and sustain the ADCMS program for the demonstration recipients at the conclusion of the demonstration and research period. Competitive proposals will also have a deployment timeline and critical milestones with associated roles and responsibilities for demonstration transit agencies.

iii. Demonstration Project Evaluation

A Demonstration Project Evaluation report is required to assess the research project's process, outcomes, and impact. This report should provide an unbiased assessment of the project's strengths, weaknesses, and lessons learned.

iv. Development of Lessons Learned

The Program Lead will facilitate the interaction between the demonstration project transit agencies by bringing demonstration partners together periodically to gather qualitative research and provide feedback on their respective findings regarding the demonstration's implementation and impact.

The Program Lead will develop a structured research framework for the demonstrations. The Program Lead will establish and regularly meet with a Research Stakeholder Committee consisting of representatives from federal agencies involved in research and development initiatives related to the project's domain, experts from relevant industries from non-profit and/or private sector organizations that have a vested interest in the research area; representatives from academia that can contribute their knowledge, research expertise, and academic perspectives to guide the project and ensure its alignment with current scientific understanding; and end users or practitioners from organizations such as public transportation agencies or relevant professionals who will be the direct beneficiaries or users of project outcomes. The Research Stakeholder Committee will review the demonstration framework and methodology, data collection plan, and preliminary and final findings and offer feedback to ensure the demonstration satisfies the nine goals of the ADCMS program in the most valid and impactful ways. The successful applicant will collaborate with FTA on the membership composition of the committee. FTA will also be a member of the committee. The Program Lead will aid the selected demonstration sites in establishing and maintaining the collection of project data and tools, striving for consistency across demonstrations to the greatest extent possible. The Program Lead will also compile and synthesize data and lessons learned from the demonstrations. Project deliverables should include data collection instruments, including surveys, interview guides, observation protocols, or experimental protocols used to collect primary data; copies of oral and/or visual presentations summarizing the project objectives, methodology, findings, and recommendations; copies of all raw and/or processed data collected during the demonstrations that can be used to facilitate replication, further analysis, or meta-analyses; and, a comprehensive demonstration project evaluation report, summarizing the evaluation methodology, findings, and recommendations. The evaluation report should be tailored to different stakeholders' needs and should be easily accessible and understandable. Additionally, opportunities for presenting the findings and engaging stakeholders in discussions should be provided in the report to ensure that the evaluation results are utilized for decision-making and improvement.

Research and demonstration conducted under this Notice will advance the strategic goals of the U.S. Department of Transportation, as outlined in its FY 2022-2026 Strategic Plan, and the Department's Innovation Principles, which can be found at https://www.transportation.gov/priorities/transformation/us-dot-innovation-principles.

B. Federal Award Information

This Notice makes available $5,093,000 to award one competitively selected Program Lead. Funding is available under FTA's Public Transportation Innovation Program (49 U.S.C. 5312). FTA may, at its discretion, provide additional funding for multi-year selections made under this Notice from FTA's Public Transportation Innovation Program (49 U.S.C. 5312), subject to the availability of appropriated funds.

An applicant whose proposal is selected for funding as the Program Lead will receive a cooperative agreement with FTA. FTA will have substantial involvement in the administration of the cooperative agreement. FTA's role includes the right to participate in decisions to redirect and reprioritize project activities, goals, and deliverables. FTA expects to provide the Program Lead with substantive input and direction at each stage of the project. Applicants are encouraged to assemble and secure partnerships necessary to conduct the Program in accordance with the requirements outlined in this Notice.

Only proposals from eligible recipients for eligible activities will be considered for funding.

Pre-award authority is subject to FTA approval and is only available for costs incurred after the announcement of the project selection on FTA's website.

Projects under this Notice are for research efforts and, as such, FTA Circular 6100.1E, “Research, Technical Assistance and Training Program Guidance” (available at https://www.fta.dot.gov/regulations-and-guidance/fta-circulars/research-technical-assistance-and-training-program), will apply in administering the program.

C. Eligibility Information

1. Eligible Applicants

Eligible applicants for the Program Lead under this Notice include the following:

• Departments, agencies, and instrumentalities of local, state, and federal government, including Federal laboratories

• Institutions of higher education, including research universities, particularly those with Minority Serving Institution status

• Non-profit organizations

• For-profit organizations

• Technical and community colleges

Eligibility is limited to United States entities. Applicants must demonstrate experience conducting comprehensive research demonstrations, including those focused on data- and technology-oriented research and application in the infrastructure construction industry, and related areas.

To be considered eligible, an applicant must be able to demonstrate the requisite legal, financial, and technical capabilities to receive and administer Federal funds under this new program.

2. Cost Sharing or Matching

Per 49 U.S.C. 5312(g), the eligible Federal share will not exceed 80 percent of net project cost. Applicants for Program Lead must provide a minimum 20 percent non-federal cost share. Applicants may also apply with a larger non-federal cost share. The non-federal share of the net project cost may be provided in cash or in kind, and the applicant must document in its application the source of the non-federal match. Eligible sources of non-federal match are detailed in FTA Circular 6100.1E.

3. Conflicts of Interest

It is FTA's intent that the ADCMS program benefits public transportation agencies irrespective of their choice of ADCMS software. Therefore, the Program Lead and its principal staff engaged in this project cannot be a provider of, or have a financial interest in, a proprietary ADCMS software solution or vendor. Each applicant must include a statement to this effect in its application.

D. Application and Submission Information

1. Address To Request Application

Applications must be made using the Standard Form 424 (SF-424), which can be downloaded from Grants.gov.

2. Content and Form of Application Submission

a. Proposal Submission

General information for submitting applications along with specific instructions for the forms and attachments required for submission can be found at Grants.gov. A complete proposal submission must consist of: (1) The SF-424 “Application for Federal Assistance;” (2) the Supplemental Form; and (3) a narrative proposal document in Microsoft Word, PDF, or a compatible file format that addresses the required elements contained in this Notice. The narrative proposal should be in the format outlined in the “Proposal Preparation and Content” section. A narrative proposal submission may contain additional supporting documentation as attachments. Once completed, the Supplemental Form, narrative proposal, and any supporting documents must be placed in the “Attachments” section of the SF-424 in Grants.gov to successfully complete the application process. The applicant must respond to all sections of the SF-424 Application for Federal Assistance and the Supplemental Form. The information in the application will be used to determine applicant and project eligibility for the program and to evaluate the proposal against the selection criteria described in this Notice. Applicants should carefully review the criteria noted in Section E and ensure their proposal addresses the factors listed.

Failure to submit the information as requested can delay review or disqualify the application.

1. Proposal Preparation and Content

Applicants must submit one electronic file for Proposals in a Microsoft Word, PDF, or compatible file format, double-spaced using Times New Roman, 12-point font. The proposal must contain the following components and adhere to the specified maximum lengths:

1. Cover Sheet (not to exceed 1 page): The cover sheet must include the entity submitting the proposal, principal's name, title, and contact information (e.g., address, office and mobile phone, and email). The cover sheet must also include name and contact information for the entity's point of contact for all cooperative agreement administrative activities (if different from principal).

2. Abstract (not to exceed 2 pages): The Abstract must include background, purpose, methodology, intended outputs, outcomes, impacts, and plan for accomplishing the goals and objectives as outlined in this Notice.

3. Table of Contents (not to exceed 1 page): The Table of Contents shall list each section of the proposal (including Appendices) by title and page number.

4. Project Budget (not to exceed 5 pages): Project budgets should show how different funding sources will share in each activity and present those data in dollars and percentages. The budget should identify other Federal funds the applicant is applying for or has been awarded, if any, that the applicant intends to use. Funding sources should be grouped into three categories: non-Federal, ADCMS, and other Federal, with specific amounts from each funding source. The proposed project budget must account for multiple years and outline the total cost of all services and products, including salaries and fringe benefits, supplies, travel, equipment, and proposed contractual arrangements (e.g., subcontracts, consultant services) and how these estimated costs are connected to the project scope.

5. Project Work Plan (not to exceed ten pages total): The proposed project work plan must include the following information:

a. Methodology—Provide a methodology for addressing the goals and objectives described above under Section A of this Notice; identify the transit agencies and construction projects proposed as demonstrations and the ADCMS products proposed to be demonstrated, and how the applicant will integrate ADCMS into the construction projects.

b. Statement of Work—Provide proposed work tasks for the project and how the proposed work tasks will be accomplished. Include the tasks for proposed activities, resources, milestones, and a timeline.

i. Staffing Plan—Describe the approach for managing the project team, including the distribution of responsibilities among project partners, and what activities each project team member will perform.

ii. Coordination with FTA—Identify the plan for coordinating the project team's activities and deliverables with the FTA's Research office, as needed and relevant.

iii. Research and Data Collection—Identify activities and the plan for electronic collection, maintenance, storage, and dissemination of data for use by the project team, stakeholders, FTA, and other customers.

iv. Communication Plan—Provide a plan for communications of project results. The plan should identify innovative communication strategies including, but not limited to the following: webinars, in-person presentations at industry events, social media (e.g., Facebook, Twitter, YouTube), text alerts, email, website publication, and toll-free telephone numbers.

v. Performance Measures—Identify multiple performance measures that FTA should use to assess the Program's overall effectiveness in accordance with the nine stated goals of the ADCMS program.

vi. Deliverables—Provide a proposed list of proposed deliverables (e.g., guides, plans, reports, services, etc.). Include quarterly reports, financial forms, guidance documents, and final reports to be submitted to FTA.

6. Staff Qualifications (not to exceed 5 pages total):

a. Organizational Capacity—Provide a narrative that briefly describes the structure of the proposer, including its history and experience in performing complex research activities. Include a narrative of the proposer's understanding of the activities in this solicitation and its responsibility for the demonstrations, data collection, and results dissemination called for in this Notice. Include the proposer's organization chart. The applicant must affirm that neither it nor the individual members of its principal staff (see d., below) has a financial interest or affiliation with the vendors whose ADCMS solutions it proposes to demonstrate.

b. Project Team Structure—Provide a narrative that briefly describes the structure and makeup of the project team. Eligible applicants are encouraged to identify in their proposal one or more project partners with a substantial interest and involvement in the project activities or objectives. If an application that involves such a partnership is selected for funding, the competitive selection process will be deemed to satisfy the requirement for a competitive procurement under 49 U.S.C. 5325(a) for the named entities. Applicants are advised that any changes to the proposed partnership after the award will require FTA's written approval, must be consistent with the scope of the approved project, and may require a competitive procurement process. Include the names of all partner organizations, and the legal relationship, if any, between the applicant and each proposed partner. Include the names and functional titles of each project team member. Proposers must also provide documentation of the project team, such as a memorandum of agreement or letter of intent signed by all parties that describes the parties' roles, responsibilities, commitment to the proposed project, and how the applicant will ensure they will have enough time to devote to the project. Include an organizational chart for the entire project team.

c. Technical Capacity of Project Team—Provide a detailed description of the technical capacity of the project team members and what activities each team member will perform. Include project staff qualifications, education, knowledge, and results of prior experience related to the topic called for in this notice. Additionally, applicants should discuss the successful completion of similar or relevant projects.

d. Biographical Summary—In addition to the Staff Qualifications narrative (5 page maximum), include a biographical summary for each staff member proposed to take a principal role or perform significant work on the project.

7. Proposals shall adhere to the specified maximum page lengths. Supplemental materials such as letters of support can be included with the proposal in an appendices section that is beyond the page limit above. Supplemental materials will not be evaluated independently.

The Department may share application information within the Department or with other Federal agencies if the Department determines that sharing is relevant to the respective program's objectives.

Applications submitted in response to this NOFO become the property of FTA and may be subject to Freedom of Information Act requests. Please segregate and clearly mark any portions of the application containing confidential or privileged trade secrets or commercial or financial information.

3. Unique Entity Identifier and System for Award Management (SAM)

Each applicant is required to: (1) be registered in SAM before applying; (2) provide a valid unique entity identifier in its application; and (3) continue to always maintain an active SAM registration with current information during which the applicant has an active Federal award or an application or plan under consideration by FTA. FTA may not make an award until the applicant has complied with all applicable unique entity identifier and SAM requirements. If an applicant has yet to fully comply with the requirements by the time FTA is ready to make an award, FTA may determine that the applicant is not qualified to receive an award and use that determination as a basis for making a federal award to another applicant. These requirements do not apply if the applicant has an exception approved by FTA or the U.S. Office of Management and Budget under 2 CFR 25.110(c) or (d).

SAM registration takes approximately 3-5 business days, but FTA recommends allowing ample time, up to several weeks, to complete all steps. For additional information on obtaining a unique entity identifier, please visit https://www.sam.gov.

4. Submission Dates and Times

Project proposals must be submitted electronically through Grants.gov by 11:59 p.m. Eastern time on February 12, 2024. Proposals submitted after the deadline will only be considered under extraordinary circumstances not under the applicant's control. Mail, fax, and email submissions will not be accepted.

FTA urges applicants to submit applications at least 72 hours prior to the due date to allow time to correct any problems that may have caused either Grants.gov or FTA systems to reject the submission. Grants.gov attaches a time stamp to each application at the time of submission. Proposals submitted after the deadline will be considered only if lateness was due to extraordinary circumstances not under the applicant's control. Grants.gov scheduled maintenance and outage times are announced in advance on the Grants.gov website.

Deadlines will not be extended due to scheduled website maintenance.

Within 48 hours after submitting an electronic application, the applicant should receive an email message from Grants.gov with confirmation of successful transmission to Grants.gov. If a notice of failed validation or incomplete materials is received, the applicant must address the reason for the failed validation, as described in the email notice, and resubmit before the submission deadline. If making a resubmission for any reason, include all original attachments regardless of which attachments were updated, and check the box on the supplemental form indicating this is a resubmission.

Applicants are encouraged to begin the registration process on the Grants.gov site well in advance of the submission deadline. Registration is a multi-step process, which may take several weeks to complete before an application can be submitted. Registered applicants may still be required to take steps to keep their registration up to date before submissions can be made successfully: (1) registration in SAM is renewed annually, and (2) persons making submissions on behalf of the Authorized Organization Representative (AOR) must be authorized in Grants.gov by the AOR to make submissions.

5. Funding Restrictions

Refer to Section C.3., Eligible Projects, for information on allowable activities. Allowable direct and indirect expenses must be consistent with the Governmentwide Uniform Administrative Requirements and Cost Principles (2 CFR part 200) and FTA Circular 5010.1E.

Funds available under this Notice cannot be used to reimburse applicants for otherwise eligible expenses incurred prior to FTA issuing pre-award authority for selected projects.

E. Application Review Information

1. Evaluation Criteria

Projects will be evaluated solely on the materials provided in the Proposal document. FTA will evaluate proposals based on the following criteria:

a. Organizational Capacity and Key Personnel Experience

Applicants should note the structure of the lead organization, including its history and experience in performing complex research and software configuration and deployment activities. Applicants should include a narrative of the applicant's understanding of the activities called for in this funding opportunity and their responsibility for coordinating demonstration activities. Applicants should describe the structure and makeup of the project team to clearly demonstrate the applicant's technical abilities to meet the requirements called for in this funding opportunity.

Applicants should note key project team personnel who will be involved in the project and how the applicant will ensure they have enough time to devote to the project. Additionally, applicants should discuss successful completion of similar or relevant real-world projects—case studies, journal articles, references, etc.

Applicants or proposed partners must demonstrate technical capabilities to:

• Effectively manage a national research program

• Implement data-driven decision-making in the iteration of program management

• Manage Federal funding and eligible expenses

• Engage with public agencies, authorities, research institutions, private organizations, and potentially community-based organizations

• Implement agile software development (i.e., deliver small pieces of working software quickly to improve customer satisfaction and continuously evaluate and implement customer requirements in response to change)

• Leverage best practices within the public transportation and construction infrastructure industries

• Apply insights from the National Academy of Sciences and other credible research organizations

b. Proposer and Proposal Team Technical Expertise

Applicants should clearly detail the technical capacity of the lead organization and what activities each team member will perform. In addition to their qualifications in conducting nationally significant research and software configuration and deployment, applicants should demonstrate project team knowledge in public transportation, infrastructure construction, digital construction technologies, and stakeholder coordination and engagement, including engaging stakeholders in a targeted manner with proven and impactful methods.

c. Applied Research and Other Related Experience

Applicants should provide evidence of applied research experience and other related experience (e.g., past program management utilizing federal funding, collaboration with research institutions, or program design and implementation), including research focused on digital construction in the public transportation or other relevant industry. The proposal should detail the applicant's ability to identify and address transportation infrastructure issues called for in this Notice to support the program's measurement goals.

d. Proposed Partnerships

Applicants should provide a narrative that discusses a creative and durable collaboration model to implement a project successfully. The narrative must include a strong framework that fosters partnerships.

e. Project Approach and Work Plan

Applicants will be evaluated on the proposed methodology and overall project approach pursuant to the inclusion of a multi-year work plan that demonstrates the Program Lead's understanding of all activities, responsibilities, and costs required to establish and implement the prescribed work. In assessing whether the proposed implementation plans are reasonable and complete, FTA will review the proposed project work plan, including all necessary project milestones and the overall project timeline, as well as ensure the project team's viability in subsequent years.

f. Technical, Legal, and Financial Capacity

Applicants must demonstrate the financial and organizational capacity and managerial experience to oversee and implement this project successfully. FTA may review relevant assessments and public records to determine whether any outstanding legal, technical, or financial issues with the applicant would affect the outcome of the proposed project.

For applications that include named project partners, FTA will also consider the proposed partners' technical, legal, and financial capacity.

6. Review and Selection Process

An FTA technical evaluation committee will evaluate proposals based on the published evaluation criteria. Members of the technical evaluation committee may request additional information from applicants if necessary. After considering the review of the technical evaluation committee, the FTA Administrator will determine the final selection for program funding.

When selecting the Program Lead, FTA will consider the applicant's ability and its proposed plan to recruit and select demonstration sites to address key priorities of the Administration. Consistent with the President's January 20, 2021, Executive Order 13990 which aims to promote clean energy, conservation, and environmental justice; emphasizes scientific integrity and evidence-based decision-making; and aligns with goals to mitigate climate change and prioritize environmental sustainability, the selecting official will consider applications that may promote these key priorities as part of the application review.

7. Integrity and Performance Review

Prior to making an award, FTA is required to review and consider any information about the applicant in FAPIIS, the designated integrity and performance system accessible through SAM. An applicant may review and comment on any information about itself that a Federal awarding agency previously entered. FTA will consider any comments by the applicant, in addition to the other information in the designated integrity and performance system, in making a judgment about the applicant's and proposed partners' integrity, business ethics, and record of performance under Federal awards when completing the review of risk posed by applicants as described in the Office of Management and Budget's Uniform Requirements for Federal Awards (2 CFR 200.206).

F. Federal Award Administration Information

1. Federal Award Notices

FTA will notify the successful applicant and may announce the selection on its website, https://www.transit.dot.gov. Following notification, the successful applicant will be required to submit their application through the FTA Transit Award Management System (TrAMS).

2. Administrative and National Policy Requirements

a. Pre-Award Authority

At the time the project selection is announced, FTA may extend pre-award authority for the successful applicant. There is no blanket pre-award authority for the project before announcement. FTA will issue specific guidance to the selected recipient regarding pre-award authority at the time of selection. FTA does not provide pre-award authority for competitive funds until projects are selected, and even then, Federal requirements must be met before costs are incurred. For more information about FTA's policy on pre-award authority, please see the most recent Apportionments, Allocations, and Program Information Notice (88 FR 23117).

b. Cooperative Agreement Requirements

The successful applicant will apply for a cooperative agreement through TrAMS and adhere to the customary FTA grant requirements of 49 U.S.C. 5312, Public Transportation Innovation, including those of FTA C 6100.1E, where applicable. FTA will award and manage a cooperative agreement through TrAMS. Discretionary grants and cooperative agreements greater than $500,000 will go through the Congressional notification and release process. Assistance regarding these requirements is available from FTA.

c. Made in America

All capital procurements must meet FTA's Buy America requirements (49 U.S.C. 5323(j) and 49 CFR part 661) and the Build America, Buy America Act's domestic preference requirements for infrastructure projects (§ 70901-§ 70927 of the Infrastructure Investment and Jobs Act, Pub. L. 117-58), which together require that all iron, steel, manufactured goods and construction materials be produced in the United States and set minimum domestic content and final assembly requirements for rolling stock.

d. Data Management Plan

FTA seeks to improve public transportation for America's communities by sharing digital data or source code collected or developed through its research with the public. This allows research organizations, public transportation agencies, State DOTs, and other stakeholders to learn from and expand upon the insights developed from FTA-funded research.

An award made pursuant to this Notice will be subject to the latest version of FTA's Master Agreement (available at https://www.transit.dot.gov/funding/granteeresources/sample-fta-agreements/fta-grant-agreements), including Section 17 Patent Rights and Section 18 Rights in Data and Copyrights. All work conducted under this award must follow the Department data policies outlined in the DOT Public Access Plan at: https://ntl.bts.gov/public-access/how-comply. Recipients are required to include these obligations in any sub-awards or other related funding agreements.

Public Data Access requirements include developing a Data Management Plan (DMP) and submitting the DMP for FTA review. A DMP is a document that describes how recipients plan to handle digital datasets, software, or code generated over the course of a research project pursuant to federal and Departmental requirements. A DMP must be provided as a condition of receiving FTA funds under the Section 5312 Research Program and should adequately identify: (1) The data to be collected, (2) how the data will further the goals of this effort, (3) how the data will be made accessible, and (4) how the data will be stored. DMPs can be updated over time if the scope of the project or the type of data that will be collected changes. FTA staff is available to assist recipients with complying with public data access requirements.

FTA expects recipients to remove confidential business information (CBI) and Personally Identifiable Information (PII) before providing public access to project data. Recipients must ensure the appropriate data are accessible to FTA or the public for a minimum of five years after the award's performance period expires.

Recipients must make available to the Department copies of all work developed in performance of a project funded under this Notice, including but not limited to software and data. Data rights shall be in accordance with 2 CFR 200.315, Intangible Property.

e. Disadvantaged Business Enterprises

Recipients receiving planning, capital, or operating assistance that will award prime contracts exceeding $250,000 in FTA funds in a Federal fiscal year must comply with Department of Transportation Disadvantaged Business Enterprise (DBE) program regulations (49 CFR part 26). Applicants should expect to include any funds awarded, excluding those used for vehicle procurements, in setting their overall DBE goal.

f. Standard Assurances

If an applicant receives an award, the applicant must assure that it will comply with all applicable Federal statutes, regulations, executive orders, directives, FTA circulars, and other Federal administrative requirements in carrying out any project supported by the FTA award. The applicant acknowledges that it will be under a continuing obligation to comply with the terms and conditions of the agreement issued for its project with FTA. The applicant understands that Federal laws, regulations, policies, and administrative practices might be modified from time to time and may affect the implementation of the project. The most recent Federal requirements will apply to the project unless FTA issues a written determination otherwise. The applicant must submit the most recent FTA Certifications and Assurances before receiving an award if it does not have current certifications on file.

g. External Communications

The successful applicant must communicate with the FTA project manager prior to engaging in any external communications regarding the Program. This includes any work developing news or magazine stories with media organizations, including print, video, online, or otherwise. Additionally, the FTA project manager must be notified if project information, including results and metrics, will be shared during a webinar or other presentation open to the public, produced either by the recipient itself or another organization. The successful applicant must consult with the FTA project manager at the beginning of their agreement to discuss and plan any external communications about their project.

h. Software Provisions

Any standards, guidance, tools, or software developed as a part of this solicitation will be subject to provisions of FTA's Master Agreement and evaluated for the potential to be shared for FTA purposes.

i. Critical Infrastructure Security and Resilience

It is the policy of the United States to strengthen the security and resilience of its critical infrastructure against both physical and cyber threats. Each applicant selected for Federal funding under this Notice must demonstrate, prior to the signing of the grant agreement, effort to consider and address physical and cyber security risks relevant to the transportation mode and type and scale of the project. Projects that have not appropriately considered and addressed physical and cyber security and resilience in their planning, design, and project oversight, as determined by the Department of Transportation and the Department of Homeland Security, will be required to do so before receiving funds for construction, consistent with Presidential Policy Directive 21—“Critical Infrastructure Security and Resilience and the National Security Presidential Improving Cybersecurity for Critical Infrastructure Control Systems.”

3. Reporting and Payment

Post-award reporting requirements include the electronic submission of Federal Financial Reports and Milestone Progress Reports in TrAMS quarterly. Documentation is required for payment. Additional reporting may be required specific to the program prescribed in this Notice, and the recipient may be expected to participate in events or peer networks related to the goals and objectives of the program. The Federal Financial Accountability and Transparency Act (FFATA) requires data entry at the FFATA Sub Award Reporting System (https://www.FSRS.gov) for all sub-awards and sub-contracts issued for $30,000 or more, as well as addressing executive compensation for both award recipients and sub-award organizations. The selected recipient will be required to disburse via Delphi and E-invoicing.

The successful applicant should include any goals, targets, and indicators referenced in its application in the Executive Summary of the TrAMS application.

As part of completing the annual certifications and assurances required of FTA grant recipients, a successful applicant must report on the suspension or debarment status of itself and its principals.

If the award recipient's active grants, cooperative agreements, and procurement contracts from all Federal awarding agencies exceed $10,000,000 for any period during the period of performance of an award made pursuant to this Notice, the recipient must comply with the Recipient Integrity and Performance Matters reporting requirements described in Appendix XII to 2 CFR part 200.

4. Termination for Failure To Make Progress on an Award

After providing written notice to the recipient of a project selected for funding, FTA may withdraw its support for the selected project (if a cooperative agreement has not yet been awarded) or suspend or terminate all or any part of the federal assistance for the award if the recipient has failed to make reasonable progress implementing the project. FTA may withdraw its support for a project or terminate an award agreement if:

1. A recipient has not completed its application for funding in TrAMS within 60 days of the date FTA announces project selection.

2. A recipient has not begun its demonstration project within one year after funding was awarded in TrAMS.

3. A recipient has not delivered a project evaluation to FTA within one year of completing its demonstration project.

4. FTA may also withdraw support from a project or terminate an award agreement if the proposed activities are no longer needed or if the recipient has violated the terms of FTA's Annual Agreement.

G. Federal Awarding Agency Contacts

For further information concerning this Notice, please contact the ADCMS Program Team, FTA Office of Research, Demonstration, and Innovation, by email at ADCMS@dot.gov. A TDD is available for individuals who are deaf or hard of hearing at 800-877-8339. In addition, FTA will post answers to questions and requests for clarifications on FTA's website at: https://www.transit.dot.gov/research-innovation/ADCMS.

To ensure applicants receive accurate eligibility information, applicants are encouraged to contact FTA directly, rather than through intermediaries or third parties, with questions. FTA staff may also conduct briefings on the competitive grants selection and award process upon request.

For issues with Grants.gov, please contact Grants.gov by phone at 1-800-518-4726 or by email at support@grants.gov.

H. Other Information

This program is not subject to Executive Order 12372, “Intergovernmental Review of Federal Programs.”

Nuria I. Fernandez,
Administrator.

[FR Doc. 2023-22521 Filed 10-12-23; 8:45 am]

BILLING CODE 4910-57-P